DEPARTMENT OF COMMERCE

National Oceanic and Atmospheric Administration

RIN 0648-XC557

North Pacific Fishery Management Council; Public Meetings

AGENCY: National Marine Fisheries Service (NMFS), National Oceanic and Atmospheric Administration (NOAA), Commerce.

ACTION: Notice of public meetings.

SUMMARY: The North Pacific Fishery Management Council (Council) and its advisory committees will hold public meetings in Anchorage, AK.

DATES: The meetings will be held April 1-9, 2013. See SUPPLEMENTARY INFORMATION for specific dates and times.

ADDRESSES: The meetings will be held at the Anchorage Hilton Hotel, 500 West 3rd Avenue, Anchorage, AK.

Council address: North Pacific Fishery Management Council, 605 W. 4th Avenue, Suite 306, Anchorage, AK 99501-2252.

FOR FURTHER INFORMATION CONTACT: David Witherell, Council staff; telephone: (907) 271-2809.

SUPPLEMENTARY INFORMATION: The Council will begin its plenary session at 8 a.m. on Wednesday April 3, continuing through Tuesday April 9, 2013. The Scientific Statistical Committee (SSC) will begin at 8 a.m. on Monday April 1 and continue through Wednesday April 3, the Council's Advisory Panel (AP) will begin at 8 a.m. on Tuesday April 2 and continue through Friday April 5. The Enforcement Committee will meet, April 2, 1 p.m. to 5 p.m. (T). All meetings are open to the public, except executive sessions.

Council Plenary Session:

The agenda for the Council's plenary session will include the following issues. The Council may take appropriate action on any of the issues identified.

1. Executive Director's Report

NMFS Management Report

ADF&G Report

United States Coast Guard (USCG) Report

United States Fish & Wildlife Service (USFWS) Report

Protected Species Report

2. Observer Program (Council only): Report from NMFS, outlines of first year report and Electronic Monitoring (EM); Report from Observer Advisory Committee (OAC).

3. Groundfish issues; final action on Bering Sea Aleutian Island (BSAI) Flatfish Specifications Flexibility; Final action on American Fisheries Act (AFA) Vessel replacement Gulf of Alaska (GOA) sideboards.

4. Steller Sea Lions (SSL) Environmental Impact Statement (EIS); review discussion paper on Bering Sea and Aleutian Island Pacific cod Allowable Biological Catch (ABC)/Total Allowable Catch (TAC) split; Initial review of the SSL EIS; select preliminary preferred alternative (PPA); Update on Biological Opinion (BiOp) analytical methods. (SSC only)

5. Scallop Stock Assessment Fishery Evaluation (SAFE): Review and approve Scallop SAFE and harvest specifications.

6. Community Quota Entity (CQE): Initial review/final action on CQE halibut/sablefish block restrictions.

7. Cooperative (Coop) reports and Salmon Prohibited Species Catch (PSC) (Council only): Receive Amendment 80 Cooperative reports; receive Central Gulf of Alaska (CGOA) Rockfish Coop report; receive AFA pollock coop and Individual Program Agreements (IPA) reports; Industry progress report on BSAI Chum salmon bycatch; Update on salmon genetics research.

8. Miscellaneous Issues: Preliminary review of analysis to create transit lane near Round Island; discussion paper on Bering Sea sablefish TAC specifications; expanded discussion paper on retention of 4A halibut in BSAI sablefish pots; Crab modeling report (SSC only); Research Priorities (SSC only).

9. Staff Tasking: Review Committees and tasking.

The SSC agenda will include the following issues:

1. Round Island Analysis.

2. Steller Sea Lions.

3. Scallop SAFE.

4. CQE block limits.

5. Crab Modeling.

6. Salmon Genetics.

7. Research Priorities.

The Advisory Panel will address most of the same agenda issues as the Council except B reports. The Agenda is subject to change, and the latest version will be posted at http://www.alaskafisheries.noaa.gov/npfmc/.

Although non-emergency issues not contained in this agenda may come before this group for discussion, in accordance with the Magnuson-Stevens Fishery Conservation and Management Act (Magnuson-Stevens Act), those issues may not be the subject of formal action during these meetings. Actions will be restricted to those issues specifically identified in this notice and any issues arising after publication of this notice that require emergency action under Section 305(c) of the Magnuson-Stevens Act, provided the public has been notified of the Council's intent to take final action to address the emergency.

Special Accommodations

These meetings are physically accessible to people with disabilities. Requests for sign language interpretation or other auxiliary aids should be directed to Gail Bendixen at (907) 271-2809 at least 7 working days prior to the meeting date.

Dated: March 8, 2013.
Tracey L. Thompson,
Acting Deputy Director, Office of Sustainable Fisheries, National Marine Fisheries Service.

[FR Doc. 2013-05786 Filed 3-12-13; 8:45 am]

BILLING CODE 3510-22-P